FEDERAL COMMUNICATIONS COMMISSION

[IB Docket No. 16-185; DA 21-35; FRS 17387]

World Radiocommunication Conference Advisory Committee Meetings of Informal Working Groups One, Two, Three and Four

AGENCY: Federal Communications Commission.

ACTION: Notice.

SUMMARY: This notice advises interested persons that Informal Working Group 1 (IWG-1), Informal Working Group 2 (IWG-2), Informal Working Group 3 (IWG-3) and Informal Working Group 4 (IWG-4) of the 2023 World Radiocommunication Conference Advisory Committee (WRC-23 Advisory Committee) have scheduled meetings as set forth below. The meetings are open to the public.

DATES: IWG-3: Tuesday, January 26, 2021 (11:00 a.m.-1:00 p.m. EST); IWG-4: Tuesday, January 26, 2021 (1:00 p.m.-3:00 p.m. EST); IWG-1: Thursday, January 28, 2021 (1:00 p.m.-3:00 p.m. EST); IWG-3: Tuesday, February 2, 2021 (11:00 a.m.-1:00 p.m. EST); IWG-2: Tuesday, February 2, 2021 (1:00 p.m.-3:00 p.m. EST); IWG-1: Thursday, February 4, 2021 (11:00 a.m.-1:00 p.m. EST).

ADDRESSES: The meetings will be held virtually.

FOR FURTHER INFORMATION CONTACT: Dante Ibarra, Designated Federal Official, World Radiocommunication Conference Advisory Committee, FCC International Bureau, Global Strategy and Negotiation Division, at Dante.Ibarra@fcc.gov, (202)-418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the IWG-1, IWG-2, IWG-3 and IWG-4 of the WRC-23 Advisory Committee scheduled meetings. The Commission's WRC-23 website (www.fcc.gov/wrc-23) contains the latest information on all scheduled meetings and WRC-23 Advisory Committee matters.

The schedule of Informal Working Group meetings are as follows:

WRC-23 Advisory Committee Schedule of Meetings of Informal Working Groups 1, 2, 3 and 4

Informal Working Group 1: Maritime, Aeronautical and Radar Services

Contacts:

Chair — Damon Ladson, dladson@hglaw.com, telephone: 202-730-1315

Vice Chair — Vacant

FCC Representatives

Louis Bell, telephone: 202-418-1641

Allen Yang, telephone: 202-418-0738

Dante Ibarra, telephone: 202-418-0610

IWG-1 Meeting 1

Date: Thursday, January 28, 2021

Time: 1:00 p.m.-3:00 p.m. EST

WebEx Meeting Number: 178 955 2750

WebEx Meeting Password: Arm5TZ7Mbh5

Teleconference Only: 1-888-858-2144

Participant Code: 7971467

IWG-1 Meeting 2

Date: Thursday, February 4, 2021

Time: 11:00 a.m.-1:00 p.m. EST

WebEx Meeting Number: 178 397 6446

WebEx Meeting Password: YHhDrbRP735

Teleconference Only: 1-888-858-2144

Participant Code: 7971467

Informal Working Group 2: Terrestrial Services

Contacts:

Chair — Jayne Stancavage, jayne.stancavage@intel.com, telephone: 408-887-3186

Vice Chair - Jennifer Oberhausen, joberhausen@ctia.org, telephone: 202-736-3235

FCC Representatives

Dante Ibarra, telephone: 202-418-0610

Louis Bell, telephone: 202-418-1641

Date: Tuesday, February 2, 2021

Time: 1:00 p.m.-3:00 p.m. EST

WebEx Meeting Number: 178 105 9661

WebEx Meeting Password: j5UZEetk65c

Teleconference Only: 1-888-858-2144

Participant Code: 7971467

Informal Working Group 3: Space Services

Contacts:

Chair—Zachary Rosenbaum, zachary.rosenbaum@ses.com, telephone: 814-233-7373

Vice Chair—Vacant

FCC Representatives

Clay DeCell, telephone: 202-418-0803

Kathyrn Medley, telephone: 202-418-1211

Eric Grodsky, telephone: 202-418-0563

Sankar Persaud, telephone: 202-418-2441

Dante Ibarra, telephone: 202-418-0610

IWG-3 Meeting 1

Date: Tuesday, January 26, 2021

Time: 11:00 a.m.-1:00 p.m. EST

WebEx Meeting Number: 178 127 6739

WebEx Meeting Password: 3KZm8g3ZrMP

Teleconference Only: 1-888-858-2144

Participant Code: 7971467

IWG-3 Meeting 2

Date: Tuesday, February 2, 2021

Time: 11:00 a.m.-1:00 p.m. EST

WebEx Meeting Number: 178 146 7452

WebEx Meeting Password: 4tTFm25vtep

Teleconference Only: 1-888-858-2144

Participant Code: 7971467

Informal Working Group 4: Regulatory Issues

Contacts:

Chair — David Goldman, david.goldman@spacex.com, telephone: 202-649-2641

Vice Chair—Giselle Creeser, giselle.creeser@intelsat.com, telephone: 703-559-7851

FCC Representatives

Dante Ibarra, telephone: 202-418-0610

Clay DeCell, telephone: 202-418-0803

Date: Tuesday, January 26, 2021

Time: 1:00 p.m.-3:00 p.m. EST

WebEx Meeting Number: 178 689 2114

WebEx Meeting Password: vySJ4sCM9m3

Teleconference Only: 1-888-858-2144

Participant Code: 7971467

Federal Communications Commission.
Troy Tanner,
Deputy Chief, International Bureau.

[FR Doc. 2021-01087 Filed 1-15-21; 8:45 am]

BILLING CODE 6712-01-P